DEPARTMENT OF JUSTICE

Office of Community Oriented Policing Services

Agency Information Collection Activities: Proposed Collection; Comments Requested

ACTION: 30-day notice of information collection under review: extension of a currently approved collection; Department Initial Report.

The Department of Justice (DOJ), Office of Community Oriented Policing Services (COPS) has submitted the following information collection request to the Office of Management and Budget (OMB) for review and approval in accordance with the Paperwork Reduction Act of 1995. The proposed information collection is published to obtain comments from the public and affected agencies. This proposed information collection was previously published in the Federal Register Volume 68, Number 3, page 567 on January 6, 2003, allowing for a 60 day comment period.

The purpose of this notice is to allow for an additional 30 days for public comment until June 6, 2003. This process is conducted in accordance with 5 CFR 1320.10.

Written comments and/or suggestions regarding the items contained in this notice, especially the estimated public burden and associated response time, should be directed to The Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

Overview of this information collection:

(1) Type of Information Collection: Extension of a Currently Approved Collection.

(2) Title of the Form/Collection: Department Initial Report (DIR).

(3) Agency form number, if any, and the applicable component of the Department of Justice sponsoring the collection: Form: none. The U.S. Department of Justice Office of Community Oriented Policing Services is sponsoring this information collection.

(4) Affected public who will be asked or required to respond, as well as a brief abstract: Primary: Recipients of the Funding Accelerated for Small Towns (FAST) program, the Accelerated Hiring, Education and Deployment (AHEAD) program, and/or Universal Hiring Program (UHP) grants. Other: Applicants of the current hiring grant program, UHP, or interested parties. Abstract: The DIR is a collection instrument that the COPS Office uses to establish a baseline to evaluate the progress of agencies awarded grants under the FAST, AHEAD, and UHP grant programs.

(5) An estimate of the total number of respondents and the amount of time estimated for an average respondent to respond: The DIR will be sent to approximately 500 grantees per year. The estimated amount of time required for the average respondent to complete and return the form is 1.5 hours.

(6) An estimate of the total public burden (in hours) associated with the collection: There are 875 estimated burden hours associated with this collection.

If additional information is required contact: Mrs. Brenda E. Dyer, Deputy Clearance Officer, United States Department of Justice, Information Management and Security Staff, Justice Management Division, Suite 1600, Patrick Henry Building, 601 D Street NW., Washington, DC 20503.

Dated: April 2, 2003.
Brenda E. Dyer,
Department Deputy Clearance Officer, Department of Justice.

[FR Doc. 03-8381 Filed 4-4-03; 8:45 am]

BILLING CODE 4410-AT-M[HD1]IV. Summary of Environmental, Energy, and Economic Impacts[P]The final rule will affect an estimated 135 major sources that perform coating, printing, slashing, dyeing and finishing operations. The impacts are presented relative to a baseline reflecting the level of control prior to the final rule. Due to consolidation throughout the industry, there is expected to be little growth within the printing, coating and dyeing industry during the next 5 years. Only three new coating sources and no new printing, slashing, dyeing, or finishing sources are projected. For more information on how impacts were estimated, see the docket for the final rule.[HD1]A. What Are the Air Impacts?[P]We estimated that compliance with the emission limits in the final rule will result in reductions of nationwide organic HAP emissions of 4,100 tpy (3,700 Megagrams per year (Mg/yr)). This represents a reduction of 60 percent from the baseline organic HAP emissions of 6,800 tpy (6,200 Mg/yr). The primary air impacts by subcategory associated with implementation of the final rule are:[P]Subcategory Emissions Emissions Emission Percent[P]Before After NESHAP Reduction Reduction[P]NESHAP (tpy) (tpy) (tpy) (%)[P]Web coating and 5,570 2,390 3,180 57[P]Printing [P]Dyeing and Finishing 900 160 750 83[P]Slashing 350 170 170 50[P]Source Category 6,820 2,720 4,100 60[P]Nationwide Total [P]B. What Are the Cost Impacts?[P]We have estimated the costs related to complying with the emission limitations and meeting the monitoring, recordkeeping, and reporting requirements. The costs to comply with the emission limitations include the costs of adding or upgrading emission control systems; the increased cost of compliant, low-formaldehyde permanent press finishes; and the cost of performance testing emission control systems. We have assumed for this analysis that all sources with affected slashing and dyeing operations will comply through the use of reformulated slashing, dyeing, thinning, and cleaning materials, and that these materials can be utilized without the need for capital expenditures. Annual costs for meeting the monitoring, recordkeeping, and reporting requirements of the final rule have also been included.[P]To comply with the final rule, web coating and printing affected sources that are not currently in compliance will likely use either upgraded existing emission control systems or new emission control systems. We estimated the capital and annual costs of carbon adsorbers, thermal oxidizers, catalytic oxidizers and coating rooms, using model plants based on information in our facility database. We examined the current level of control reported by each source in the database to determine control measures and associated model plant costs required to achieve compliance with the final rule's emission limits. Control costs estimated for the database sources were extrapolated to nationwide totals.[P]The dyeing and finishing compliance options are based on the use of low-organic HAP materials. Qualitative information concerning pollution prevention measures gathered from stakeholder meetings and site visits indicated that there would be substantial costs incurred in reducing the formaldehyde content of permanent press resins. We used information collected from a research and marketing company and textile chemical suppliers to estimate the incremental cost to produce finished fabric, using a compliant resin versus a formaldehyde resin. The incremental cost was applied to the quantity of fabric estimated to currently be finished with non-compliant formaldehyde resins.[P]Performance testing costs for coating and printing sources using add-on control systems to comply with the final rule include the labor hours required to conduct performance testing and monitoring on each emission capture system and add-on control device used and to develop the associated data elements for recordkeeping and reporting purposes. Recordkeeping and reporting includes all labor hours related to installing recordkeeping and reporting systems, developing SSMP, initial notification, compliance status notification, performance test notification, performance test report, materials usage tracking, training personnel, and monitoring deviations and SSMP reports and recordkeeping.[P]We estimate total capital costs to comply with the emission standards for the approximately 135 existing major sources to be $18.8 million, and nationwide annualized costs to be $14.5 million. These nationwide annualized costs include approximately $5.6 million associated with add-on control systems for web coating and printing operations, $7.5 million in costs associated with finishing material usage, and $1.4 million in monitoring, reporting, and recordkeeping costs.periods of startup, shutdown, or malfunction of the capture system and add-on control device. If the procedures you follow during any startup, shutdown, or malfunction are inconsistent with your SSMP, you must report those procedures with your semiannual reports in addition to immediate reports required by 40 CFR 63.10(d)(5)(ii).[HD1]IV. Summary of Environmental, Energy, and Economic Impacts[P]The final rule will affect an estimated 135 major sources that perform coating, printing, slashing, dyeing and finishing operations. The impacts are presented relative to a baseline reflecting the level of control prior to the final rule. Due to consolidation throughout the industry, there is expected to be little growth within the printing, coating and dyeing industry during the next 5 years. Only three new coating sources and no new printing, slashing, dyeing, or finishing sources are projected. For more information on how impacts were estimated, see the docket for the final rule.[HD1]A. What Are the Air Impacts?[P]We estimated that compliance with the emission limits in the final rule will result in reductions of nationwide organic HAP emissions of 4,100 tpy (3,700 Megagrams per year (Mg/yr)). This represents a reduction of 60 percent from the baseline organic HAP emissions of 6,800 tpy (6,200 Mg/yr). The primary air impacts by subcategory associated with implementation of the final rule are:[P]Subcategory Emissions Emissions Emission Percent[P]Before After NESHAP Reduction Reduction[P]NESHAP (tpy) (tpy) (tpy) (%)[P]Web coating and 5,570 2,390 3,180 57[P]Printing [P]Dyeing and Finishing 900 160 750 83[P]Slashing 350 170 170 50[P]Source Category 6,820 2,720 4,100 60[P]Nationwide Total [P]B. What Are the Cost Impacts?[P]We have estimated the costs related to complying with the emission limitations and meeting the monitoring, recordkeeping, and reporting requirements. The costs to comply with the emission limitations include the costs of adding or upgrading emission control systems; the increased cost of compliant, low-formaldehyde permanent press finishes; and the cost of performance testing emission control systems. We have assumed for this analysis that all sources with affected slashing and dyeing operations will comply through the use of reformulated slashing, dyeing, thinning, and cleaning materials, and that these materials can be utilized without the need for capital expenditures. Annual costs for meeting the monitoring, recordkeeping, and reporting requirements of the final rule have also been included.[P]To comply with the final rule, web coating and printing affected sources that are not currently in compliance will likely use either upgraded existing emission control systems or new emission control systems. We estimated the capital and annual costs of carbon adsorbers, thermal oxidizers, catalytic oxidizers and coating rooms, using model plants based on information in our facility database. We examined the current level of control reported by each source in the database to determine control measures and associated model plant costs required to achieve compliance with the final rule's emission limits. Control costs estimated for the database sources were extrapolated to nationwide totals.[P]The dyeing and finishing compliance options are based on the use of low-organic HAP materials. Qualitative information concerning pollution prevention measures gathered from stakeholder meetings and site visits indicated that there would be substantial costs incurred in reducing the formaldehyde content of permanent press resins. We used information collected from a research and marketing company and textile chemical suppliers to estimate the incremental cost to produce finished fabric, using a compliant resin versus a formaldehyde resin. The incremental cost was applied to the quantity of fabric estimated to currently be finished with non-compliant formaldehyde resins.[P]Performance testing costs for coating and printing sources using add-on control systems to comply with the final rule include the labor hours required to conduct performance testing and monitoring on each emission capture system and add-on control device used and to develop the associated data elements for recordkeeping and reporting purposes. Recordkeeping and reporting includes all labor hours related to installing recordkeeping and reporting systems, developing SSMP, initial notification, compliance status notification, performance test notification, performance test report, materials usage tracking, training personnel, and monitoring deviations and SSMP reports and recordkeeping.[P]We estimate total capital costs to comply with the emission standards for the approximately 135 existing major sources to be $18.8 million, and nationwide annualized costs to be $14.5 million. These nationwide annualized costs include approximately $5.6 million associated with add-on control systems for web coating and printing operations, $7.5 million in costs associated with finishing material usage, and $1.4 million in monitoring, reporting, and recordkeeping costs.